COMMISSION ON CIVIL RIGHTS

Agenda and Notice of Public Meeting of the Alabama Advisory Committee

Notice is hereby given, pursuant to the provisions of the rules and regulations of the U.S. Commission on Civil Rights (Commission), and the Federal Advisory Committee Act (FACA), that a planning meeting of the Alabama Advisory Committee to the Commission will convene on Tuesday, August 7, 2007 at 6 p.m. and adjourn at 8 p.m. at the Sheraton Birmingham Hotel, 2101 Richard Arrington Jr., Blvd., North, Birmingham, Alabama 35203. The purpose of the meeting is to conduct program planning for future activities.

Members of the public are entitled to submit written comments; the comments must be received in the Central Regional Office by July 13, 2007. The address is 400 State Avenue, Suite 908, Kansas City, Kansas 66101. Persons wishing to e-mail their comments, or to present their comments verbally at the meeting, or who desire additional information should contact Farella E. Robinson, Civil Rights Analyst, Central Regional Office, at (913) 551-1400 or by e-mail frobinson@usccr.gov.

Hearing-impaired persons who will attend the meeting and require the services of a sign language interpreter should contact the Regional Office at least ten (10) working days before the scheduled date of the meeting.

Records generated from this meeting may be inspected and reproduced at the Central Regional Office, as they become available, both before and after the meeting. Persons interested in the work of the advisory committee are advised to go to the Commission's Web site, http://www.usccr.gov, or to contact the Central Regional Office at the above e-mail or street address.

The meeting will be conducted pursuant to the provisions of the rules and regulations of the Commission and FACA. It was not possible to publish this notice 15 days in advance of the meeting date because of internal processing delays.

Dated at Washington, DC, August 2, 2007.
Ivy L. Davis,
Acting Chief, Regional Programs Coordination Unit.

[FR Doc. E7-15353 Filed 8-6-07; 8:45 am]

BILLING CODE 6335-01-P